DEPARTMENT OF THE INTERIOR

Minerals Management Service

Agency Information Collection Activities: Proposed Collection, Comment Request

AGENCY: Minerals Management Service (MMS), Interior.

ACTION: Notice of a revision of a currently approved information collection (OMB Control Number 1010-0140).

SUMMARY: To comply with the Paperwork Reduction Act (PRA) of 1995, we are inviting comments on a collection of information that we will submit to OMB for review and approval. This information collection request (ICR) concerns the paperwork requirements in the regulations under 30 CFR Part 210—Forms and Reports, regarding Form MMS-2014, Report of Sales and Royalty Remittance.

DATES: Submit written comments on or before January 20, 2006.

ADDRESSES: Submit written comments to Sharron L. Gebhardt, Lead Regulatory Specialist, Minerals Management Service, Minerals Revenue Management, P.O. Box 25165, MS 302B2, Denver, Colorado 80225. If you use an overnight courier service or wish to hand-carry your comments, our courier address is Building 85, Room A-614, Denver Federal Center, West 6th Ave. and Kipling Blvd., Denver, Colorado 80225. You may also e-mail your comments to us at mrm.comments@mms.gov. Include the title of the information collection and the OMB control number in the “Attention” line of your comment. Also include your name and return address. Submit electronic comments as an ASCII file, avoiding the use of special characters and any form of encryption. If you do not receive a confirmation that we have received your e-mail, contact Ms. Gebhardt at (303) 231-3211.

FOR FURTHER INFORMATION CONTACT: Sharron L. Gebhardt, telephone (303) 231-3211, FAX (303) 231-3781, or e-mail sharron.gebhardt@mms.gov.

SUPPLEMENTARY INFORMATION: Title: 30 CFR Part 210—Forms and Reports (Form MMS-2014, Report of Sales and Royalty Remittance).

OMB Control Number: 1010-0140.

Bureau Form Number: Form MMS-2014.

Abstract: The Secretary of the U.S. Department of the Interior is responsible for collecting royalties from lessees who produce minerals from leased Federal and Indian lands. The Secretary is required by various laws to manage mineral resources production on Federal and Indian lands, collect the royalties due, and distribute the funds in accordance with those laws. The Secretary also has a trust responsibility to manage Indian lands and seek advice and information from Indian beneficiaries. The MMS performs the royalty management functions and assists the Secretary in carrying out the Department's trust responsibility for Indian lands.

The Federal Oil and Gas Royalty Management Act (FOGRMA) of 1982, 30 U.S.C. 1701 et seq., states in Section 101(a) that the Secretary “* * * shall establish a comprehensive inspection, collection, and fiscal and production accounting and auditing system to provide the capability to accurately determine oil and gas royalties, interest, fines, penalties, fees, deposits, and other payments owed, and collect and account for such amounts in a timely manner.” The MMS collects the information on Form MMS-2014, Report of Sales and Royalty Remittance, which is the only document used for reporting oil and gas royalties, certain rents, and other lease-related transactions (e.g., transportation and processing allowances, lease adjustments, and quality). The information collected includes data necessary to ensure that the royalties are paid appropriately.

The persons or entities described under FOGRMA at 30 U.S.C. 1713 are required to make reports and submit reasonable information as defined by the Secretary. When a company or an individual enters into a lease to explore, develop, produce, and dispose of minerals from Federal or Indian lands, that company or individual agrees to pay the lessor a share (royalty) of the value received from production from the leased lands. The lease creates a business relationship between the lessor and the lessee. The lessee is required to report various kinds of information to the lessor relative to the disposition of the leased minerals. Such information is similar to data reported to private and public mineral interest owners and is generally available within the records of the lessee or others involved in developing, transporting, processing, purchasing, or selling of such minerals. Applicable public laws pertaining to mineral leases on Federal and Indian lands are located on our Web site at http://www.mrm.mms.gov/Laws_R_D/PublicLawsAMR.htm.

The MMS is requesting OMB's approval to continue to collect information using Form MMS-2014. Proprietary information submitted to MMS under this collection is protected, and no items of a sensitive nature are collected. The requirement to respond is mandatory.

Frequency of Response: Monthly and as required.

Estimated Number and Description of Respondents: 2,070.

Estimated Annual Reporting and Recordkeeping “Hour” Burden: 158,021 hours.

We included 30 CFR 210.351, which was overlooked in the previous renewal, and added 12 burden hours to our estimates in the chart below. We also included 30 CFR 210.53(c)(1) and (2) from the final Federal Oil Valuation rule (effective August 1, 2004) and added 288 burden hours to our estimates in the chart below. We have not included in our estimates certain requirements performed in the normal course of business and considered usual and customary. The following chart shows the estimated burden hours by CFR section and paragraph:

Respondents' Estimated Annual Burden Hours
30 CFR part 210 | Reporting and recordkeeping requirement | Hour burden | Average number of annual responses ¹ | Annual burden hours
210.20(a); 210.21(c)(1); 210.50; 210.52(a)(1), (2)(b), (c) and (d); and 210.354 | 210.20 When is electronic reporting required? | Electronic (99 percent)
| (a) You must submit a completed Form MMS-2014 * * * TO mms electronically.* * * | 0.05 (3 minutes) | 3,103,265 | 155,163
| 210.21 How do you report electronically? |  | ² −22,000 | ² −1,100
| (c)(1) You must submit an electronic sample of your report for MMS approval.* * *
| 210.50 Required recordkeeping. | Manual (1 percent)
| * * * Records may be maintained in microfilm, microfiche, or other recorded media.* * * | 0.1167 (7 minutes) | 31,346 | 3,658
| 210.52 Report of sales and royalty remittance. (a) You must submit a completed Form MMS-2014 (Report of Sales and Royalty Remittance) to MMS with: (1) All royalty payments; and, (2) Rents on nonproducing leases, (b) When you submit Form MMS-2014 data electronically, you must not submit the form itself. (c) Completed Forms MMS-2014 for royalty payments are due by the end of the month following the production month. (d) completed Forms MMS-2014 for rental payments are due no later than the anniversary date of the lease.
| 210.354 Monthly report of sales and royalty. A completed* * *Form MMS-2014 must be submitted each month once sales or utilization of production occur * * *This report is due on or before the last day of the month following the month in which production was sold or utilized
210.53 (c)(1) and (2) | 210.53 Reporting instructions. | 8 | 36 | 288
| (c) On the Form MMS-2014, the operator must report* * * (1) The share of the production the operator purchased from each working interest owner and the associated royalty payment; and (2) The operator's own share of production and the associated royalty payment.
210.351 | 210.351 Required recordkeeping. | 1 | 12 | 12
| Records may be maintained on microfilm, microfiche, or other recorded media that are easily reproducible and readable* * *
Burden Hour Total |  | 3,112,659 | 158,021
¹ Each line is considered one response/report.
²Implementation of the final rule, Accounting and Auditing Relief for Marginal Properties, effective September 13, 2004, resulted in an annual decrease of 1,100 burden hours, calculated as follows: 22,000 lines × 3 minutes/60 minutes = 1,100 burden hours.

Estimated Annual Reporting and Recordkeeping “Non-hour Cost” Burden: We have identified no “non-hour cost” burden associated with the collection of information.

Public Disclosure Statement: The PRA (44 U.S.C. 3501 et seq.) provides that an agency may not conduct or sponsor, and a person is not required to respond to, a collection of information unless it displays a currently valid OMB control number.

Comments: Before submitting an ICR to OMB, PRA Section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, and testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request. The ICR also will be posted on our Web site at http://www.mrm.mms.gov/Laws_R_D/FRNotices/FRInfColl.htm.

Public Comment Policy: We will post all comments in response to this notice on our Web site at http://www.mrm.mms.gov/Laws_R_D/FRNotices/FRInfColl.htm. We also will make copies of the comments available for public review, including names and addresses of respondents, during regular business hours at our offices in Lakewood, Colorado. Upon request, we will withhold an individual respondent's home address from the public record, as allowable by law. There also may be circumstances in which we would withhold a respondent's identity, as allowable by law. If you request that we withhold your name and/or address, state your request prominently at the beginning of your comment. However, we will not consider anonymous comments. We will make all submissions from organizations or businesses, and from individuals identifying themselves as representatives or officials of organizations or businesses, available for public inspection in their entirety.

MMS Information Collection Clearance Officer: Arlene Bajusz, (202) 208-7744.

Cathy J. Hamilton,
Acting Associate Director for Minerals Revenue Management.

[FR Doc. 05-22953 Filed 11-18-05; 8:45 am]

BILLING CODE 4310-MR-P